DEPARTMENT OF COMMERCE

International Trade Administration

[A-533-871]

Finished Carbon Steel Flanges From India: Final Results of Antidumping Duty Administrative Review; 2021-2022

AGENCY: Enforcement and Compliance, International Trade Administration, Department of Commerce.

SUMMARY: The U.S. Department of Commerce (Commerce) determines that Norma (India) Limited, USK Exports Private Limited, Uma Shanker Khandelwal & Co., and Bansidhar Chiranjilal (collectively, the Norma Group), and R.N. Gupta & Co. Ltd. (RNG), and made sales of subject merchandise below normal value. The period of review (POR) is August 1, 2021, through July 31, 2022.

DATES: Applicable December 22, 2023.

FOR FURTHER INFORMATION CONTACT: Fred Baker, Preston Cox, or Theodora Mattei, AD/CVD Operations, Office VI, Enforcement and Compliance, International Trade Administration, U.S. Department of Commerce, 1401 Constitution Avenue NW, Washington, DC 20230; telephone: (202) 482-2924, (202) 482-5041, or (202) 482-4834, respectively.

SUPPLEMENTARY INFORMATION:

Background

On August 24, 2017, Commerce published in the Federal Register the antidumping duty (AD) order on finished carbon steel flanges from India.¹ On September 7, 2023, Commerce published in the Federal Register the preliminary results of the 2021-2022 administrative review of the Order.² We invited interested parties to comment on the Preliminary Results; however, no interested party submitted comments. Accordingly, the final results remain unchanged from the Preliminary Results, and there is no decision memorandum accompanying this notice. Commerce conducted this administrative review in accordance with section 751(a) of the Tariff Act of 1930, as amended (the Act).

¹ See Finished Carbon Steel Flanges from India and Italy: Antidumping Duty Orders, 82 FR 40136 (August 24, 2017) (Order).

² See Finished Carbon Steel Flanges from India: Preliminary Results of Antidumping Duty Administrative Review; 2021-2022, 88 FR 61520 (September 7, 2023) (Preliminary Results), and accompanying Preliminary Decision Memorandum.

Scope of the Order

The merchandise covered by the Order is finished carbon steel flanges. For a complete description of the scope of the Order, see the Preliminary Decision Memorandum.

Rate for Non-Selected Respondents

The Act and Commerce's regulations do not address the establishment of a rate to be applied to companies not selected for individual examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted average of the estimated weighted average dumping margins established for exporters and producers individually investigated, excluding any zero or de minimis margins, and any margins determined entirely {on the basis of facts available}.”

In this administrative review, we preliminarily calculated weighted-average dumping margins for Norma group and RNG that are not zero, de minimis (i.e., less than 0.5 percent), or determined entirely on the basis of facts available. For these final results, we continue to calculate weighted-average dumping margins for Norma group and RNG that are not zero, de minimis, or determined entirely on the basis of facts available. Accordingly, Commerce is assigning to the companies not individually examined, listed in the appendix to this notice, a margin of 1.00 percent, which is the weighted average of Norma group's and RNG's margins based on publicly ranged data.³

³ See Memorandum, “Antidumping Duty Order on Finished Carbon Steel Flanges from India; Administrative Review; 2021-2022: Preliminary Results Calculation of Margin for Respondents Not Selected for Individual Examination,” dated August 31, 2023.

Final Results of Review

As noted above, the final results of this administrative review remain unchanged from the Preliminary Results. Thus, Commerce determines that the following weighted-average dumping margins exist for the period August 1, 2021, through July 31, 2022:

Producer/exporter | Weighted-average dumping margin (percent)
Norma (India) Limited/USK Exports Private Limited/Uma Shanker Khandelwal & Co./Bansidhar Chiranjilal | 0.70
R.N. Gupta & Co. Ltd | 1.15
Non-Selected Companies | 1.00

Disclosure

Normally, Commerce will disclose to the parties in a proceeding the calculations performed in connection with the final results of review within five days of any public announcement or, if there is no public announcement, within five days of the date of publication of the notice of final results in the Federal Register, in accordance with 19 CFR 351.224(b). However, Commerce received no comments on the Preliminary Results, and we have made no adjustments to the margin calculation methodology used in the Preliminary Results. Consequently, there are no calculations to disclose for these final results of the administrative review.

Assessment

Pursuant to section 751(a)(2)(C) of the Act and 19 CFR 351.212(b)(1), Commerce shall determine, and U.S. Customs and Border Protection (CBP) shall assess, antidumping duties on all appropriate entries of subject merchandise in accordance with the final results of this review. For Norma group and RNG, we calculated importer-specific assessment rates on the basis of the ratio of the total amount of dumping calculated for each importer's examined sales and the total entered value of those sales in accordance with 19 CFR 351.212(b)(1). Where an importer-specific assessment rate is zero or de minimis, the entries by that importer will be liquidated without regard to antidumping duties. For entries of subject merchandise during the POR produced by Norma group and RNG for which the producer did not know its merchandise was destined for the United States, we will instruct CBP to liquidate unreviewed entries at the all-others rate in the less-than-fair-value investigation if there is no rate for the intermediate company(ies) involved in the transaction.⁴ For the companies identified in the appendix to this notice that were not selected for individual examination, we will instruct CBP to liquidate entries at the rates established in these final results of the review.

⁴ For a full discussion of this practice, see Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication in the Federal Register of these final results of administrative review for all shipments of the subject merchandise entered, or withdrawn from warehouse, for consumption on or after the publication date, as provided by section 751(a)(2)(C) of the Act: (1) the cash deposit rate for companies subject to this review will be equal to the zero margin established in the final results of this administrative review; (2) for merchandise exported by a company not covered in this review but covered in a prior segment of the proceeding, the cash deposit rate will continue to be the company-specific rate published in the completed segment for the most recent period; (3) if the exporter is not a firm covered in this review, a prior review, or the less-than-fair-value investigation, but the producer is, then the cash deposit rate will be the rate established in the most recently completed segment of the proceeding for the producer of the merchandise; and (4) the cash deposit rate for all other producers or exporters will continue to be 20.33 percent, the all-others rate established in the less-than-fair-value investigation.⁵ These cash deposit requirements, when imposed, shall remain in effect until further notice.

⁵ See Order, 81 FR at 64434.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice also serves as a reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

The final results of this review are issued and published in accordance with sections 751(a)(1) and 777(i)(1) of the Act, and 19 CFR 351.221(b)(5).

Dated: December 18, 2023.
James Maeder,
Deputy Assistant Secretary for Antidumping and Countervailing Duty Operations.

Appendix

Non-Selected Respondent Companies

1. Adinath International

2. Allena Group.

3. Alloyed Steel.

4. Balkrishna Steel Forge Pvt. Ltd.

5. Bansidhar Chiranjilal.

6. Bebitz Flanges Works Private Limited.

7. BFN Forgings Private Limited.

8. C.D. Industries.

9. Cetus Engineering Private Limited.

10. CHW Forge.

11. CHW Forge Pvt. Ltd.

12. Citizen Metal Depot.

13. Corum Flange.

14. DN Forge Industries.

15. Echjay Forgings Limited.

16. Falcon Valves and Flanges Private Limited.

17. Heubach International.

18. Hindon Forge Pvt. Ltd.

19. Jai Auto Private Limited.

20. Kinnari Steel Corporation.

21. M F Rings and Bearing Races Ltd.

22. Mascot Metal Manufactures

23. Munish Forge Private Limited.

24. Norma (India) Limited.

25. OM Exports.

26. Punjab Steel Works (PSW).

27. R. D. Forge.

28. R. N. Gupta & Company Limited.

29. Raaj Sagar Steel.

30. Ravi Ratan Metal Industries.

31. Rolex Fittings India Pvt. Ltd.

32. Rollwell Forge Engineering Components and Flanges.

33. Rollwell Forge Pvt. Ltd.

34. SHM (ShinHeung Machinery).

35. Siddhagiri Metal & Tubes.

36. Sizer India.

37. Steel Shape India.

38. Sudhir Forgings Pvt. Ltd.

39. Tirupati Forge

40. Uma Shanker Khandelwal & Co.

41. Umashanker Khandelwal Forging Limited.

42. USK Exports Private Limited.

[FR Doc. 2023-28265 Filed 12-21-23; 8:45 am]

BILLING CODE 3510-DS-P